DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Cross-Site Evaluation of the National Child Traumatic Stress Initiative (NCTSI)—NEW

The Substance Abuse and Mental Health Services Administration's (SAMHSA), Center for Mental Health Services (CMHS) will conduct the Cross-Site Evaluation of the National Child Traumatic Stress Initiative (NCTSI). The data collected will describe the children and families served by the National Child Traumatic Stress Network (NCTSN) and their outcomes, assess the development and dissemination of effective treatments and services, evaluate intra-network collaboration, and assess the Network's impact beyond the NCTSN.

Data will be collected from caregivers, NCTSN staff (e.g., project directors, researchers, and providers), mental health providers outside of the NCTSN, and non-mental health service providers who provide services to children outside of the NCTSN. Data collection will take place in 31 Community Treatment and Services Programs (CTS), 13 Treatment and Service Adaptation Centers (TSA), and 2 National Centers for Child Traumatic Stress (NCCTS). Data collection for this evaluation will be conducted over a four-year period.

In order to describe the children served, their outcomes, and satisfaction with services, data will be collected from youth ages 7-18 who are receiving services in the NCTSN, and from caregivers for all children who are receiving NCTSN services. Data will be collected when the child/youth enters services and during subsequent follow-up sessions at three-month intervals over the course of one year. Approximately 2,121 youth and 3,000 caregivers will participate in the evaluation.

Data will be collected for use in the development of evaluation measures that will assess the development, dissemination and adoption of trauma-informed services. These data will be collected from a total of approximately 110 NCTSN service providers, project directors and NCCTS staff. Data will be collected one time from these respondents.

Measures that collect data on development, dissemination, and adoption of trauma-informed services and other NCTSN products will be administered to approximately 1,100 service providers, 44 project directors, and 44 researchers/evaluators. These measures will be administered once per year in each of the four years of the evaluation.

To assess collaboration across the network, data will be collected from approximately 450 NCTSI staff and 44 project directors/principal investigators. The surveys associated with this data collection will be administered at varying intervals, with either one or two data collection points per respondent over the four years of the evaluation.

Product development and dissemination will be evaluated with data that will be collected from 44 project directors/principal investigators. These data will be collected annually.

To assess the national impact of the NCTSN, data will be collected from 1,600 mental health and 1,600 non-mental health service providers from outside the NCTSN. These data will be collected every second year over the four years of the evaluation (i.e., two data collection points per respondent).

The average annual respondent burden is estimated below.

Instrument | Number of respondents | Annual number of responses/ respondent | Hours per response | Total annual hours
Caregivers:
Child Behavior Checklist 1.5-5/6-18 | 3,000 | 2 | 0.33 | 1980
Service Summary Form | 3,000 | 2 | 0.22 | 1320
Baseline/Renewal Assessment | 3,000 | 2 | 0.22 | 1320
Core Clinical Characteristics Form | 3,000 | 2 | 0.22 | 1320
Youth Services Survey for Families | 2,185 | 1 | 0.08 | 175
Case Study Interviews | 10 | 1 | 1.50 | 15
Youth:
Trauma Symptoms Checklist for Children-Abbreviated | 2,121 | 2 | 0.33 | 1400
UCLA-PTSD short form | 2,121 | 2 | 0.17 | 721
Network Service Provider:
Key Informant Interviews | 18 | 1 | 0.50 | 9
Focus Groups | 54 | 1 | 1.00 | 54
Trauma-informed Service Provider Survey | 1,100 | 1 | 0.50 | 550
General Adoption Assessment Survey | 1,100 | 1 | 0.50 | 550
Adoption and Implementation Factors Interview | 50 | 1 | 0.50 | 25
Project Director/Principal Investigator:
Key Informant Interviews | 18 | 1 | 0.50 | 9
Focus Groups | 18 | 1 | 1.00 | 18
Trauma-informed Service Provider Survey | 44 | 1 | 0.50 | 22
Product/Innovations Development and Dissemination Survey | 44 | 1 | 1.50 | 66
General Adoption Assessment Survey | 44 | 1 | 0.50 | 22
Adoption and Implementation Factors Interview | 10 | 1 | 0.50 | 5
Network Survey | 44 | 1 | 1.00 | 44
Other Network Staff:
Key Informant Interviews | 4 | 1 | 0.50 | 2
Trauma-informed Service Provider Survey | 44 | 1 | 0.50 | 22
Telephone Interviews | 35 | 1 | 1.50 | 53
Case study interviews | 20 | 1 | 2.00 | 40
General Adoption Assessment Survey | 44 | 1 | 0.50 | 22
Adoption and Implementation Factors Interview | 30 | 1 | 0.50 | 15
Network Survey | 44 | 1 | 1.00 | 44
Partner Participatory Assessment Tool | 400 | 1 | 0.75 | 300
Non-Network Mental Health Professionals:
National Impact Survey | 1,600 | 1 | 0.50 | 800
Non-Network Non-Mental Health Professionals:
National Impact Survey | 1,600 | 1 | 0.50 | 800
Non-Network product developers:
Case Study Interviews | 20 | 1 | 1.50 | 30
Total | 8,564 |  |  | 11,753

Send comments to Summer King, SAMHSA Reports Clearance Officer, Room 7-1044, 1 Choke Cherry Road, Rockville, MD 20850. Written comments should be received by June 21, 2005.

Dated: April 14, 2005.
Anna Marsh,
Executive Officer, SAMHSA.

[FR Doc. 05-7988 Filed 4-21-05; 8:45 am]

BILLING CODE 4162-20-P